RAILROAD RETIREMENT BOARD

Sunshine Act; Notice of Closed Meeting

Notice is hereby given that the Railroad Retirement Board will hold a meeting on January 15, 2015, 10:00 a.m. at the Board's meeting room on the 8th floor of its headquarters building, 844 North Rush Street, Chicago, Illinois 60611. The agenda for this meeting follows:

Closed meeting notice:

(1) Director of Programs Position

The person to contact for more information is Martha P. Rico, Secretary to the Board, Phone No. 312-751-4920.

Dated: January 5, 2015.
Martha P. Rico,
Secretary to the Board.

[FR Doc. 2015-00060 Filed 1-5-15; 11:15 am]

BILLING CODE 7905-01-P